DEPARTMENT OF HOMELAND SECURITY

Coast Guard

[Docket No. USCG 2008-0190]

Chemical Transportation Advisory Committee

AGENCY: Coast Guard, DHS.

ACTION: Notice of meetings.

SUMMARY: The Chemical Transportation Advisory Committee (CTAC); its Subcommittees on Outreach, National Fire Protection Association (NFPA) 472 Standard, Hazardous Cargo Transportation Security (HCTS), and International Maritime Solid Bulk Cargoes (IMSBC) Code; as well as its Working Group on Barge Emissions and Hazard Communication will meet in Washington, DC, to discuss various issues relating to the marine transportation of hazardous materials in bulk. These meetings will be open to the public.

DATES: The Subcommittee on Outreach will meet on Tuesday, April 22, 2008, from 8 a.m. to 9:30 a.m. The Barge Emissions and Hazard Communication Working Group will meet Tuesday, April 22, 2008, from 9:30 a.m. to 10:30 a.m. The Subcommittee on NFPA 472 Standard will meet on Tuesday, April 22, 2008, from 1 p.m. to 2 p.m. The Subcommittee on HCTS will meet on Tuesday, April 22, 2008, from 2:15 p.m. to 4 p.m. The new Subcommittee on IMSBC Code will meet Wednesday, April 23, 2008, from 8 a.m. to 3 p.m. The coordinator for the U.S. Coast Guard's “Homeport” will conduct training on the application of the Web site for use by CTAC members on Wednesday, April 23, 2008, from 1 p.m. to 4 p.m. CTAC will meet on Thursday, April 24, 2008, from 9 a.m. to 3:30 p.m. These meetings may close early if all business is finished. Written material and requests to make oral presentations should reach the U.S. Coast Guard on or before April 18, 2008. Requests to have a copy of your material distributed to each member of the committee should reach the U.S. Coast Guard on or before April 18, 2008.

ADDRESSES: CTAC and its Subcommittees and Working Group will be meeting at U.S. Coast Guard Headquarters, 2100 Second Street, SW., Washington, DC. Send written material and requests to make oral presentations to Commander Rick Raksnis, Commandant (CG-5223), U.S. Coast Guard Headquarters, 2100 Second Street, SW., Washington, DC 20593-0001. This notice and documents identified in the Supplementary Information section as being available in the docket may be viewed in our online docket, USCG-2008-0190, at http://www.regulations.gov.

FOR FURTHER INFORMATION CONTACT: Commander Rick Raksnis, Designated Federal Officer (DFO) of CTAC, or Sara Ju, Assistant to the DFO, telephone 202-372-1422, fax 202-372-1926.

SUPPLEMENTARY INFORMATION: Notice of these meetings is given under the Federal Advisory Committee Act, 5 U.S.C. App. (Pub. L. 92-463).

Agendas of Meetings

Chemical Transportation Advisory Committee (CTAC). The agenda includes the following:

(1) Progress report from the Outreach Subcommittee and its Barge Emissions and Hazard Communication Working Group.

(2) Status report on the HCTS Subcommittee.

(3) Status report on the NFPA 472 Subcommittee.

(4) Progress report on the IMSBC Code Subcommittee.

(5) Presentation on U.S. Coast Guard Web site “Homeport”.

(6) Presentation on Transportation Security Administration (TSA) on surface transportation security within the railroad industry.

(7) Presentation on Hazardous Materials First Responder training offered by the International Association of Fire Fighters.

(8) Status report on the implementation of the Transportation Worker Identification Credential (TWIC).

(9) Presentation on the National Response Center (NRC).

The Outreach Subcommittee. The Subcommittee will discuss the application of the U.S. Coast Guard's Web site “Homeport” to help advance its outreach activities.

The Barge Emissions and Hazard Communication Working Group. The Working Group will discuss emergency response contact numbers on barges and various outreach efforts for first responders.

The NFPA 472 Standard Subcommittee. The Subcommittee will review its task statement and identify any outstanding items.

The HCTS Subcommittee. The Subcommittee will discuss the status of the Transportation Worker Identification Credential (TWIC) and proposed changes to the Advanced Notice of Arrival (ANOA) process.

The IMSBC Code Subcommittee. The Subcommittee will discuss the following topics:

(1) Adoption of the IMSBC Code and the requirements contained in SOLAS Chapter VI for international shipments of solid bulk cargoes;

(2) Harmonization of U.S. regulations with the IMSBC Code and SOLAS Chapter VI; and

(3) Incorporation of requirements and best practices for the safe transport of solid bulk cargoes contained in Coast Guard policy, guidelines, and previously issued special permits.

The Subcommittee will develop recommendations to Title 46 Code of Federal Regulations (CFR) Part 148, taking into account the IMSBC Code, for CTAC to review and approve. This is the first in a series of meetings anticipated for this Subcommittee. Working groups and/or correspondence groups will be established to facilitate the work of this Subcommittee.

Procedural

These meetings are open to the public. At the Chairman's discretion, members of the public may make oral presentations during the meeting. If you would like to make an oral presentation, please notify the DFO no later than April 18, 2008. Written material for distribution at this meeting should reach the Executive Director no later than April 18, 2008. If you would like a copy of your material distributed to each committee member in advance of the meeting, please submit 25 copies to the Executive Director no later than April 18, 2008.

Information on Services for Individuals With Disabilities

For information on facilities or services for individuals with disabilities or to request special assistance at this meeting, contact the Executive Director as soon as possible.

Dated: March 21, 2008.
J. Lantz,
Director of Commercial Regulations and Standards.

[FR Doc. E8-6618 Filed 3-31-08; 8:45 am]

BILLING CODE 4910-15-P